FEDERAL DEPOSIT INSURANCE CORPORATION

Agency Information Collection Activities: Submission for OMB Review; Comment Request

AGENCY: Federal Deposit Insurance Corporation (FDIC).

ACTION: Notice of information collection to be submitted for OMB review and approval under the Paperwork Reduction Act of 1995.

SUMMARY: In accordance with the requirements of the Paperwork Reduction Act of 1995 (44 U.S.C. 3501 et seq.), the FDIC hereby gives notice that it plans to submit to the Office of Management and Budget (OMB) a request for OMB review and approval of the information collection system entitled “Prompt Corrective Action.”

DATES: Comments must be submitted on or before August 4, 2005.

ADDRESSES: Interested parties are invited to submit written comments. All comments should refer to “Prompt Corrective Action, 3064-0115.” Comments may be submitted by any of the following methods:

• http://www.FDIC.gov/regulations/laws/federal/propose.html.

• E-mail: comments @FDIC.gov. Include “Prompt Corrective Action, 3064-0115” in the subject line of the message.

• Mail: Leneta G. Gregorie (202) 898-3719, Counsel, Room MB-3082, Federal Deposit Insurance Corporation, 550 17th Street, NW., Washington, DC 20429.

• Hand Delivery: Comments may be hand-delivered to the guard station at the rear of the 17th Street Building (located on F Street), on business days between 7 a.m. and 5 p.m.

A copy of the comments should also be submitted to the OMB desk officer for the FDIC: Mark Menchik, Office of Information and Regulatory Affairs, Office of Management and Budget, New Executive Office Building, Room 3208, Washington, DC 20503, or by electronic mail to mmenchik@omb.eop.gov.

FOR FURTHER INFORMATION CONTACT: Leneta G. Gregorie, (202) 898-3719, or at the address identified above.

SUPPLEMENTARY INFORMATION:

Proposal To Renew the Following Currently Approved Collection of Information

Title: Prompt Corrective Action.

OMB Number: 3064-0115.

Frequency of Response: On occasion.

Affected Public: All insured financial institutions.

Estimated Number of Respondents: 19.

Estimated Number of Responses: 19.

Estimated Time per Response: 4 hours.

Estimated Total Annual Burden: 76 hours.

General Description of Collection: The prompt corrective action provisions in section 38 of the Federal Deposit Insurance Act (12 U.S.C. 1831o) permits and, in some cases requires, the Federal Deposit Insurance Corporation (FDIC) and other Federal banking agencies to take certain supervisory actions when FDIC-insured institutions fall within one of five capital categories. They also restrict or prohibit certain activities and require the submission of a capital restoration plan when an insured institution becomes undercapitalized.

Request for Comment

Comments are invited on: (a) Whether the collection of information is necessary for the proper performance of the FDIC's functions, including whether the information has practical utility; (b) the accuracy of the estimates of the burden of the information collection, including the validity of the methodology and assumptions used; (c) ways to enhance the quality, utility, and clarity of the information to be collected; and (d) ways to minimize the burden of the information collection on respondents, including through the use of automated collection techniques or other forms of information technology.

All comments will become a matter of public record.

Dated in Washington, DC, this 28th day of June, 2005.
Federal Deposit Insurance Corporation.
Valerie J. Best,
Assistant Executive Secretary.

[FR Doc. 05-13117 Filed 7-1-05; 8:45 am]

BILLING CODE 6714-01-P